DEPARTMENT OF COMMERCE

National Oceanic and Atmospheric Administration

50 CFR Part 648

[Docket No. 010319075-1217-02; I.D. 101306A]

Magnuson-Stevens Fishery Conservation and Management Act Provisions; Fisheries of the Northeastern United States; Tilefish Fishery

AGENCY: National Marine Fisheries Service (NMFS), National Oceanic and Atmospheric Administration (NOAA), Commerce.

ACTION: Temporary rule, tilefish commercial quota adjustment.

SUMMARY: NMFS announces that the Administrator, Northeast Region, NMFS (Regional Administrator), has determined that the quota for the tilefish Part-time permit category has been exceeded for fishing year (FY) 2006, requiring an adjustment of the Part-time permit category quota for FY 2007. This action complies with the Fishery Management Plan for the Tilefish Fishery (FMP) and is intended to continue the rebuilding program in the FMP by taking into account previous overages of the tilefish quota.

DATES: Effective November 1, 2006, through October 31, 2007.

FOR FURTHER INFORMATION CONTACT: Brian R. Hooker, Fishery Policy Analyst, (978) 281-9220.

SUPPLEMENTARY INFORMATION:

Background

The regulations at 50 CFR 648.290(c) state that any overages of the quota for any tilefish limited access category that occur in a given fishing year will be subtracted from the quota for that category in the following fishing year. This same section also states that, if the tilefish harvest attributed to the open access Incidental permit category exceeds 5 percent of the total allowable landings (TAL) for a given fishing year, the trip limit for the Incidental category may be reduced the following year. In both of these instances, § 648.290(c) specifies that, if an adjustment is required, a notification of adjustment of the quota will be published in the Federal Register.

The tilefish TAL for FY 2007 remains unchanged from FY 2006 at 1.995 million lb (905 mt). The FMP requires that the TAL be divided between the three limited access tilefish permit categories after the TAL is reduced by 5 percent to account for incidental tilefish landings (open-access Incidental permit category) as follows: Sixty-six percent (1,250,865 lb (466,875 kg)) to Full-time Tier 1; 15 percent (284,288 lb (106,108 kg)) to Full-time Tier 2; and 19 percent (360,098 lb (163,338 kg)) to Part-time vessels.

Based upon vessel reports and other information available as of October 20, 2006, FY 2006 tilefish landings for limited access Part-time permit category were 453,033 lb (205,492 kg), resulting in an overage of 92,935 lb (42,155 kg). This overage amount is being deducted from the FY 2007 Part-time permit category quota through this action, which results in an adjusted quota of 267,163 lb (121,183 kg) for this category in FY 2007. Adjustments to the remaining permit categories are not needed, and the FY 2007 quotas for these categories, therefore, remain status quo, including the Incidental trip limit for tilefish for FY 2007, which will remain at its default value of 300 lb (136 kg).

The FY 2006 tilefish Part-time permit category quota, the FY 2006 tilefish Part-time permit category landings, and the resulting overage of the FY 2006 tilefish Part-time permit category quota are presented in Table 1. The resulting adjusted FY 2007 tilefish Part-time permit category commercial quota is presented in Table 2.

Table 1.Tilefish Part-time Category 2006 Landings and Overage
Permit Category | 2006 Quota: Lb | 2006 Quota: kg¹ | 2006 Landings: Lb | 2006 Landings: Kg¹ | 2006 Overage: Lb | 2006 Overage: Kg¹
Part-time | 360,098 | 163,338 | 453,033 | 205,492 | 92,935 | 42,155
¹ Kilograms are as converted from pounds, and may not necessarily add due to rounding.

Table 2. Tilefish Part-time Category Adjusted FY 2007 Quota
Permit Category | 2007 Initial Quota: Lb | 2007 Initial Quota: Kg¹ | 2007 Adjusted Quota: Lb | 2007 Adjusted Quota: Kg¹
Part-time | 360,098 | 163,338 | 267,163 | 121,183
¹ Kilograms are as converted from pounds, and may not necessarily add due to rounding.

Classification

This action is required by 50 CFR part 648 and is exempt from review under Executive Order 12866. Pursuant to 5 U.S.C. 553(b)(B), the Assistant Administrator finds good cause to waive prior notice and opportunity for public comment, as notice and comment would be impracticable and unnecessary. The regulations under § 648.290(c) requires the Regional Administrator to subtract any overage of the quota for any tilefish limited access category from the quota for that category in the following fishing year. Accordingly, the action being taken by this temporary rule is nondiscretionary. The procedure being followed by this action was subject to public comment, but there is no discretion to modify this action based on public comment at this time. The rate of harvest of tilefish by the Part-time permit category is updated weekly on the internet at http://www.nero.noaa.gov. Accordingly, the public is able to obtain information that would provide some advanced notice of a potential action as a result of a tilefish quota being exceeded during FY 2006. Further, the potential for this action was considered and open to public comment during the development of the tilefish FMP. Therefore, any negative effect the waiving of public comment may have on the public is mitigated by these factors.

Authority: 16 U.S.C. 1801 et seq.

Dated: October 24, 2006.
James P. Burgess,
Acting Director, Office of Sustainable Fisheries, National Marine Fisheries Service.

[FR Doc. 06-8981 Filed 10-26-06; 2:50 pm]

BILLING CODE 3510-22-S